DEPARTMENT OF EDUCATION

[Docket ID ED-2012-OESE-0004]

RIN 1810-AB14

Final Priorities, Requirements, and Selection Criteria—Comprehensive Centers Program (CFDA Number: 84.283B)

AGENCY: Office of Elementary and Secondary Education, Department of Education.

ACTION: Notice.

SUMMARY: The Assistant Secretary for Elementary and Secondary Education announces priorities, requirements, and selection criteria under the Comprehensive Centers Program. The Assistant Secretary may use one or more of these priorities, requirements, and selection criteria for competitions in fiscal year (FY) 2012 and later years. We take this action to focus Federal technical assistance on identified State-led reforms. We intend these priorities, requirements, and selection criteria to increase the relevance and usefulness of Comprehensive Center technical assistance.

DATES: Effective Date: These priorities, requirements, and selection criteria are effective July 6, 2012.

FOR FURTHER INFORMATION CONTACT: Fran Walter, U.S. Department of Education, 400 Maryland Avenue SW., room 3W115, Washington, DC 20202, Telephone: (202) 205-9198 or by email: fran.walter@ed.gov.

If you use a telecommunications device for the deaf (TDD) or a text telephone (TTY), call the Federal Relay Service, toll free, at 1-800-877-8339.

SUPPLEMENTARY INFORMATION:

Purpose of Program: The Comprehensive Centers program supports the establishment of no fewer than 20 comprehensive technical assistance centers to provide technical assistance to State educational agencies (SEAs) that builds their capacity to support local educational agencies (LEAs or districts) and schools, especially low-performing districts and schools, improve educational outcomes for all students, close achievements gaps, and improve the quality of instruction.

Program Authority: Title II, section 203, of the Education Technical Assistance Act of 2002 (ETAA).

We published a notice of proposed priorities, requirements, and selection criteria (NPP) for this program in the Federal Register on January 23, 2012 (77 FR 3242). The NPP contained background information and our reasons for proposing the particular priorities, requirements, and selection criteria.

Public Comment: In response to our invitation in the NPP, 59 parties submitted comments on the proposed priorities, requirements, and selection criteria. We used these comments to revise, improve, and clarify the priorities, requirements, and selection criteria. We group major issues according to subject and discuss other substantive issues under the title of the item to which they pertain. Generally, we do not address technical and other minor changes. In addition, we do not address general comments that raised concerns not directly related to the proposed priorities, requirements, or selection criteria.

Analysis of Comments and Changes: An analysis of the comments received, and any changes to the priorities, requirements, and selection criteria since publication of the NPP, follows.

General

Comment: One commenter recommended that the U.S. Department of Education (the Department) increase teacher awareness of culturally and linguistically gifted students by using the Comprehensive Centers to develop a cadre of teacher trainers with expertise in culturally relevant gifted education practices.

Discussion: While we do not identify specific initiatives related to gifted students, the requirements for both the Regional Centers and the Content Centers focus on increasing the capacity of SEAs to support their LEAs and schools in improving outcomes for all students. For this reason, we do not believe it is necessary to specifically identify initiatives for gifted students in the final priorities.

Changes: None.

Comment: One commenter suggested that in order to meet the educational needs of all students and achieve better outcomes, our overall strategy should focus on removing barriers for students and teachers and moving from what the commenter characterized as a deficit-based instructional system toward one based on student growth.

Discussion: We have committed the resources of the Comprehensive Centers program to help SEAs build their capacity to implement State-level initiatives and support district- and school-level initiatives that will close achievement gaps and improve the quality of instruction. Further, in the requirements for all centers, we specify that the centers will help SEAs build organizational capacity to support district- and school-level implementation of effective practices to improve student outcomes. For example, the centers will help SEAs work collaboratively and productively with districts and schools, identify and implement a continuum of support and interventions to address districts' and schools' specific needs, and support the implementation and scaling up of innovative and effective strategies. We believe these capacity-building approaches will contribute to removing barriers to learning for both students and teachers. A center's support for the implementation and scaling up of innovative and effective strategies could include support for strengths-based instruction, which focuses on student potential and growth.

Changes: None.

Comment: One commenter recommended that we support States' data collection efforts, specifically in the management and use of longitudinal data systems and the Integrated Postsecondary Education Data System.

Discussion: We agree with the commenter and support States' efforts to effectively collect and use data. As stated in this notice, all Regional Centers are required to work with SEAs to build their capacity to use data-based decision-making to improve instructional practices, policies, and student outcomes and to address the demands of implementing their longitudinal data systems. In addition, the Center on Innovations in Learning will provide technical assistance to Regional Centers and SEAs that focuses on using State and local data systems to identify specific areas of student need and evaluate the effectiveness of specific strategies that support innovations in learning. These efforts will support the States' management and use of their statewide longitudinal data systems and other data sets as appropriate.

Changes: None.

Comment: One commenter requested that the final notice include the funding available for each Center.

Discussion: In the notice inviting applications (NIA) published elsewhere in this issue of the Federal Register, we identify the funding available for each of the Regional and Content Centers.

Changes: None.

Comment: One commenter was concerned that the Comprehensive Centers program may violate State law, contract law, privacy rights, and the right of citizens to vote on governance and tax issues.

Discussion: The ETAA authorizes awards to Comprehensive Centers to provide training, technical assistance, and professional development to SEAs, LEAs, regional educational agencies, and schools in the administration and implementation of programs under the Elementary and Secondary Education Act of 1965 (ESEA). The priorities, requirements, and selection criteria in this notice are consistent with the ETAA and, in adopting them, the Department followed the laws and regulations that govern rulemaking. We do not believe that the Comprehensive Centers program violates Federal or State law, and nothing in this notice requires grantees to act contrary to the law or usurps the rights of citizens to vote on governance or tax issues. Additionally, all Federal and State privacy and contract laws apply to potential Comprehensive Center grantees.

Changes: None.

Comment: One commenter noted that although the Department's oversight for the Comprehensive Centers program is essential, States might be uncomfortable providing adequate feedback to inform that oversight. The commenter suggested that we provide support for States to work through a common entity to identify and share challenges and routinely communicate with the Department to ensure that Federal oversight of the Comprehensive Centers is effective and focused on the right issues.

Discussion: Although we strongly agree with the commenter about the importance of State feedback to the Department on the Comprehensive Center program, we decline the suggestion to establish an entity to serve as an intermediary between States and the Department. As part of the Department's grant monitoring and oversight activities, we review feedback from SEA staff provided in each grantee's annual performance report and annual evaluation. We also welcome direct feedback from SEA staff.

As described in the application requirements, all applicants must provide a plan to assess the progress and performance of the center in meeting the educational and capacity-building needs of SEAs. The plan must include a description of the methods that will be used to monitor progress and make mid-course corrections as needed. Each applicant must also provide a plan to collect and use formative and summative data throughout the grant period to inform and improve service delivery. Finally, the ETAA requires ongoing independent evaluations of the Comprehensive Centers program by the Institute of Education Science's National Center for Education Evaluation and Regional Assistance. We believe these established processes and requirements ensure adequate feedback from States on the progress and performance of the centers.

We also have established an option to allow an SEA flexibility to indicate to the Department in the second fiscal year of the cooperative agreement, and in each subsequent fiscal year, its desire to affiliate with a different Regional Center, regardless of the location of that center. Together with our program-monitoring efforts, we believe that the requirements and flexibility described in this notice will ensure effective oversight of the program.

Changes: None.

Comment: One commenter, while strongly supporting the Department's focus on State-led reforms, urged us to ensure that the centers respond to the full range of State-led reforms, some of which were not mentioned in the NPP.

Discussion: The priority for Regional Centers identifies seven key State-led reform areas within which the centers will work to build State capacity. The priority is clear that this is a non-exhaustive list and does not preclude a center from working with SEAs on initiatives in other key State-led reform areas. Further, in partnership with the SEAs, Regional Centers are required to develop a plan of technical assistance based on each SEA's unique context, challenges, and current capacity, which will address specific State-led reform initiatives. Content Centers will work to increase State capacity in identified key topic areas.

Changes: None.

Comment: One commenter noted that the Center on School Turnaround would focus its attention on issues related to the most persistently low-achieving schools, even though SEAs are responsible for the improvement of all of their districts and schools. The commenter expressed concern that no center would be devoted to providing assistance to SEAs in managing differentiated supports and interventions for the larger number of districts and schools in need of improvement that are not the lowest-performing districts or schools.

Discussion: While there is not a specific center that focuses on providing assistance to SEAs in managing differentiated supports and interventions for districts or schools in need of improvement, the purpose of the Comprehensive Centers program is to provide technical assistance to SEAs that builds their capacity to support districts and schools, especially low-performing districts and schools; improve educational outcomes for all students; close achievement gaps; and improve the quality of instruction. We believe the centers described in this notice focus to a significant extent on students in districts and schools in need of improvement and decline to make any change.

Changes: None.

Comment: A few commenters noted that increasing the number of Content Centers without additional funding for the program will lead to a reduction in the resources available for all centers, at a time when the centers are likely to receive increased requests for services from States experiencing budget reductions. One commenter also noted the increased cost to Regional Centers of coordinating and collaborating with a larger number of Content Centers.

Discussion: We currently support 16 Regional Centers and 5 Content Centers; we plan to support 15 Regional Centers and 7 Content Centers under the Comprehensive Centers 2012 competition. We acknowledge that at current funding levels, increasing the total number of Comprehensive Centers by one will decrease the amount of funding available for each center. We also recognize the value of the Regional Centers, as evidenced in our expectations for their work.

However, we believe that the benefit of establishing two additional Content Centers to help the Regional Centers address challenging and high-priority topics outweighs the minimal reduction in funds to the other Comprehensive Centers. Five of the Content Centers will help build SEA capacity in key reform areas where work in many States is already underway: Creating and implementing high-quality standards and assessments, ensuring college- and career-readiness and success for students, addressing early learning, ensuring great teachers and leaders, and turning around the lowest-performing schools. The two additional centers will help SEAs and Regional Centers focus specifically on improving SEA infrastructures, management processes, and innovative approaches to teaching and learning that we believe will support the achievement of the identified reforms.

Changes: None.

Comment: Some commenters were concerned that reducing the number of Regional Centers would result in less service for smaller, more rural States if they are placed in a larger region with more densely populated States.

Discussion: We currently support 16 Regional Centers and 5 Content Centers; we plan to support 15 Regional Centers and 7 Content Centers under the Comprehensive Centers 2012 competition. We recognize an opportunity with this competition to foster strong collaborative relationships between Regional Centers and the Institute for Education Sciences' Regional Education Labs (RELs) by aligning the geographical areas served by both, since both work with States to address their needs. Therefore, in the NIA published elsewhere in this issue of the Federal Register, we establish one to two Regional Centers in each REL region. This structural change is designed to increase both the coherence of the Department's technical assistance and collaboration between Comprehensive Centers and RELs. It will better use resources to benefit States, including smaller, more rural States.

Changes: None.

Priorities

Priorities—General

Comment: Two commenters asked that the Department give priority consideration to small businesses or unemployed educators as Comprehensive Center applicants.

Discussion: Entities eligible to apply for Comprehensive Center grants, as identified in the ETAA, include research organizations, institutions, agencies, institutions of higher education, or partnerships among such entities, or individuals, with the demonstrated ability or capacity to carry out required activities. We encourage all eligible applicants to apply, including small businesses and educators with the demonstrated ability or capacity to carry out the requirements and activities of the program, but the statute does not provide priority consideration for them. Therefore, we decline to provide priority consideration as requested.

Changes: None.

Priorities for All Centers

Comment: One commenter suggested an absolute priority requiring communication and collaboration across the Content Centers and the RELs, and across priority areas, to support a comprehensive approach to technical assistance. The commenter further suggested that the Department support a national organization to facilitate this communication and supplement the needs identified by individual States with a national perspective.

Discussion: We do not agree that there is a need for an absolute priority requiring communication and collaboration or to support a national organization to facilitate communication. We believe the statutory requirements under section 203(f)(2) of the ETAA and the requirement that all centers coordinate and collaborate with other Comprehensive Centers (as described under the heading “Requirements for all Centers” in this notice), other Department-funded technical assistance providers, and other technical assistance providers to address SEA needs sufficiently address the importance of communication and collaboration among the States and centers. Additionally, all Content Centers are required to address national needs as well as the needs of individual regions and States. For these reasons, we decline to take the suggestions.

Changes: None.

Comment: Commenters supported our proposal that all Regional and Content Centers address the needs of special populations, including English Learners and students with disabilities. One commenter urged the Department to include all subgroups defined in the ESEA as priorities for the Regional and Content Centers. The commenter recommended adding racial and ethnic minorities and students in poverty into each of the sections in the notice where categories of students are identified.

Discussion: We appreciate the support of the commenters and strongly agree that the needs of all students must be addressed through the work of the Comprehensive Centers program. To be clear about our interest in addressing the needs of all students, including multiple subgroups of students, we have revised the language in the requirements, where applicable, to use the term “high-need children and high-need students,” and we have included its definition from the Department's notice of final supplemental priorities and definitions published in the Federal Register on December 15, 2010 (75 FR 78486), and corrected on May 12, 2011 (76 FR 27637). Under this definition, “high-need children and high-need students” mean children and students at risk of educational failure, such as children and students who are living in poverty, who are English Learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

Changes: We have revised the language in paragraphs II(B)(1)(e); II(C)(1)(c); II(F)(4); and II(G)(1) of the requirements section to include the term “high-need children and high-need students,” as applicable. We have also revised the requirements to specify the definition of this term.

Comment: Some commenters were concerned that school climate issues facing lesbian, gay, bisexual, transgender, and questioning (LGBTQ) students and teachers were not identified as priorities for the Comprehensive Centers.

Discussion: We are committed to making sure all students feel safe and secure in school, and are collaborating with other Federal agencies in an effort to combat harassment and promote supportive and welcoming school climates. Since 2010, the Department has issued two “Dear Colleague” letters that clarify for SEAs and LEAs their civil rights obligations and their responsibilities under the Equal Access Act as they relate to LGBTQ students. These two guidance documents explain that when students are subjected to harassment on the basis of their sexual orientation or gender identity, they may also be subjected to forms of sex discrimination prohibited under Title IX. The guidance documents also clarify that gay-straight alliances, which can play an important role in creating safer, more welcoming school environments for LGBTQ students, must be afforded the same opportunities as other non-curricular student organizations to form, to convene on school grounds, and to access resources.

In addition to this legal guidance, we currently fund two technical assistance centers, the Safe and Supportive Schools Technical Assistance Center (SSSTAC), and the Technical Assistance Center on Positive Behavioral Interventions and Supports (PBIS) in addition to 10 Equity Assistance Centers that provide educators with the tools to improve school climate, support student mental health, and prevent and reduce harassment. SSSTAC provides training, tools, and resources to help educators assess risk and protective factors influencing student health and safety within school settings and to develop strategies to improve outcomes. More information about the SSSTAC is available at http://safesupportiveschools.ed.gov. PBIS provides schools with capacity-building information and technical assistance for identifying, adapting, and sustaining effective school-wide disciplinary practices. More information about PBIS is available at http://www.pbis.org.

The 10 regional Equity Assistance Centers focus more specifically on civil rights issues, including the elimination of harassment or bias based on race, sex, or ethnicity. These centers respond to requests for assistance from schools, districts, and States and provide at no charge training, resources, and materials specifically tailored to the needs of the requester. More information about the Equity Assistance Centers is available at http://www2.ed.gov/programs/equitycenters/index.html. Because we currently fund centers that provide States with the support they need to create safe school environments for LGBTQ students, we have not added a priority that specifically focuses on LGBTQ issues.

Changes: None.

Comment: A few commenters recommended that school safety be a priority for the Comprehensive Centers program. One commenter stressed that classroom management and safety can negatively affect student engagement and instructional opportunities for all students. Another commenter recommended including a firm anti-bullying focus.

Discussion: We agree that a safe, well-managed school environment, free from bullying and violence, is a critical foundation for providing every student the opportunity to graduate ready for college and a career. Further, when educators do not have sufficient capacity and expertise to effectively promote positive behavior, student academic and health outcomes suffer. Students face a higher likelihood of victimization or are deterred from learning by frequent classroom disruptions by their peers.

We have revised the requirements for the Center on Great Teachers and Leaders to include a technical assistance focus on building teacher and leader capacity to create safe, productive school environments and increase academic engagement for all students. It is our intent to strengthen educator capacity to preserve instructional time by addressing student behavior in the classroom, and, in doing so, encourage the use of effective alternatives to disciplinary practices that remove students from the classroom but do not resolve their disruptive or threatening behavior (e.g., suspension, expulsion, and school-based arrests).

With regard to bullying prevention in particular, the Department has worked with several Federal agencies to develop a Web site, www.stopbullying.gov, to provide students, parents, and educators with useful information and approaches to address bullying in their communities. In addition, as previously discussed, we fund the SSSTAC and 10 Equity Assistance Centers, which provide educators with tools to improve school climates and prevent and reduce harassment. Because we currently fund centers that provide States with the critical support they need to create safe school environments, we decline to make the suggested change.

Changes: We have added a requirement to the Center on Great Teachers and Leaders to provide technical assistance to Regional Centers and SEAs that focuses on building teacher and leader capacity to create safe, productive school environments and increase academic engagement for all students.

Comment: One commenter noted that if effective Science, Technology, Engineering, and Mathematics (STEM) education is a priority need in the United States, then STEM should be articulated specifically in each priority. The commenter states that high-quality STEM education must begin early, as early as pre-K and elementary grades.

Discussion: We agree that STEM education is of primary importance and have included in the requirements for the Center for College and Career Readiness and Success that it will provide to Regional Centers and SEAs technical assistance that focuses on high-quality STEM instruction. Although we have not chosen to require technical assistance on STEM for other Content Centers or the Regional Centers, nothing in the requirements or the priority language will preclude other centers from working with SEAs on specific initiatives related to STEM. While we would encourage this work, we believe it is important to allow centers the flexibility to be responsive to State needs.

Changes: None.

Priorities for Regional Centers

Comment: A number of commenters, noting States' accomplishments in working with the current Regional Centers, asserted that developing and maintaining strong relationships and successful partnerships with their SEAs should be a top priority for Regional Centers. One suggested that the requirements be revised to better reflect the value of a partnership approach. Others urged us to take current partnerships into account in evaluating and scoring new proposals or, at a minimum, to require applicants to describe how they intend to develop an understanding of, and establish continuity with, work currently being done.

Discussion: We appreciate the support expressed for the work of the Regional Centers and agree that productive partnerships between center and SEA staff are crucial to the success of their efforts. We believe the priority and requirements for the Regional Centers will foster a partnership approach and reflect the value of such an approach.

For additional clarity, we have strengthened the Regional Center requirements to emphasize the importance of partnerships between Centers and SEAs by now requiring the Center to work to ensure a mutual commitment by both SEAs and Regional Centers to devote the necessary time, leadership, and personnel to achieve specific goals.

Further, Regional Centers are required to assess State needs and, in partnership with the SEAs in their regions, develop an annual work plan that addresses the needs of each SEA based on its unique context, challenges, and current capacity. This requirement is intended to ensure that the Regional Center understands each State's priorities, which might include a desire to continue work that began with the current Comprehensive Centers.

Our goal is to provide SEAs with the highest quality technical assistance possible by selecting high-quality grantees. The Department's discretionary grant competition process is structured to ensure that each application is reviewed and scored based on the strength of its written proposal. We did not choose to propose a competitive priority or other preferential treatment for current grantees because providing additional points to current grantees could unfairly advantage them in a new competition. Therefore, we decline the suggestion that these relationships be taken into account when considering applications.

Changes: We have modified the Regional Center application requirements to require that applicants articulate an approach to securing an SEA's commitment to devote the time, leadership, and personnel needed to achieve specific goals, which may include a memorandum of understanding or similar agreement that contains timelines and benchmarks to ensure that the work stays on track to achieve these goals. We have also added the response to this requirement as a consideration under the selection criterion that addresses the overall quality of the technical assistance plan.

Comment: One commenter asked for clarification of the proposed priority for Regional Centers. Specifically, the commenter expressed concern that these centers will be expected to track student outcomes.

Discussion: We do not expect centers to track student outcomes. The priority and requirements for all Regional Centers address the provision of high-quality technical assistance that focuses on key initiatives and builds the capacity of SEAs to implement, support, scale up, and sustain initiatives statewide and to lead and support their LEAs and schools in improving school outcomes.

Changes: None.

Comment: One commenter expressed support for the proposed priority for the Regional Centers but stated that literacy should be mentioned specifically.

Discussion: The priority for the Regional Centers states that they will provide capacity-building technical assistance that helps States implement, support, scale up, and sustain key initiatives aimed at improving student outcomes. While we agree that literacy is essential to students' success in school, we think that literacy instruction is encompassed within this priority and do not believe that specific mention of literacy is necessary.

Changes: None.

Content Centers—General

Comment: Several commenters recommended that the Department place a greater emphasis on parent, family, and community engagement, suggesting that there be a Content Center specifically devoted to this topic.

Discussion: We agree that strong family and community engagement is important in the education of all students. All centers will be required to provide SEAs with high-quality technical assistance that increases SEA capacity to support their LEAs and schools in improving student outcomes. Building organizational capacity might include helping SEAs develop ways to involve key stakeholders—including parents—in State-, district-, and school-level decision-making that affects the schooling of their children. While we would encourage a focus on family and community engagement, we believe it is important to allow centers flexibility to be responsive to State needs. Therefore, we have not proposed an additional Content Center to specifically address parent, family, and community engagement.

Changes: None.

Priority for Center on Enhancing Early Learning Outcomes

Comment: One commenter suggested that we define preschool ages and suggested that the priority explicitly define “preschool” as “birth through grade three” to be consistent with the emerging emphasis on continuity across the early childhood span.

Discussion: We do not define the term “preschool” in this notice because the term is used in different Federal and State programs to encompass varying age ranges. However, the priority for this center expressly states that the center is to help SEAs increase the number of children from birth to third grade who are prepared to succeed in school. While we decline the suggestion to specify an age range with respect to preschool education, we are revising the priority to describe early learning systems generally rather than as “preschool to third grade” systems.

Changes: We have revised the priority to reflect a recognition that early learning systems may encompass a broad range of ages by deleting the phrase “preschool to third grade early learning systems” and replacing it with the phrase “early learning systems.”

Priority for Center on Great Teachers and Leaders

Comment: One commenter encouraged the Department to recognize the unique roles and responsibilities of pupil and related-service providers, such as speech-language pathologists and audiologists. The commenter suggested including these educators in the center's efforts to support effective instruction and leadership.

Discussion: As described in the priority, the Center on Great Teachers and Leaders will provide technical assistance that will help SEAs support their districts and schools in improving student outcomes by supporting effective instruction and leadership. We agree that all educators and leaders, including related-service providers, play important roles in this effort. While we do not explicitly mention these educators in the priority or requirements, the Center on Great Teachers and Leaders will work with SEAs and Regional Centers seeking technical assistance to support effective instruction and leadership of all educators. However, as there are many educators within schools who are integral to raising student achievement, we decline the suggestion to identify specific types of educators in the priority.

Changes: None.

Priority for Center on Building State Capacity and Productivity

Comment: One commenter expressed the opinion that the description of the Center on Building State Capacity and Productivity lacked a clear purpose and was focused too narrowly on implementing and scaling up practices rather than addressing all important aspects of SEA work to support districts and schools. The commenter also stated that building SEA capacity should be the job of all the centers in the Comprehensive Centers program, not one.

Discussion: Under the program requirements for all centers, each center must provide technical assistance to help SEAs build their capacity to implement State-level initiatives and support district- and school-level initiatives that improve educational outcomes for all students, close achievement gaps, and improve the quality of instruction. Additionally, the Center on Building State Capacity and Productivity will, like other Content Centers, provide technical assistance in its specific area of expertise to Regional Centers and SEAs. We do not agree that the requirements and expertise of the Center on Building State Capacity and Productivity are vague or too narrow. We believe that there are components of SEA capacity-building that require specialized knowledge and expertise, and we have identified those areas in the requirements for the Center on Building State Capacity and Productivity.

Changes: None.

Requirements

Requirements for All Centers

Comment: Two commenters asked the Department to clarify the client base for the Comprehensive Centers. Specifically, the commenter requested clarification about whether centers could work only with SEAs or whether they could also work directly with school districts, schools, and other State agencies.

Discussion: The primary clients for the Regional Centers are the SEAs. The centers help build the capacity of the SEAs to better support their districts and schools. We expect that center staff will at times work alongside the SEA staff to assist in addressing district and school issues, but the center's efforts should enhance and not replace those of the SEA. Therefore, any work with individual school districts and schools must involve a high leverage strategy (reach a large number or proportion of districts or schools; respond to a need identified by the SEA; and be planned, coordinated, and executed in concert with the SEA). The centers are not required to, but may, interact with other State agencies but only to support their work with SEAs.

Changes: None.

Comment: One commenter requested clarification about whether the proposed requirement that all centers use a common online portal to share and exchange information meant the online portal would replace individual center Web sites.

Discussion: It does not. Coordination and collaboration among technical assistance providers are important and we require both activities for all centers. A key component of this coordination is providing easy and efficient access to technical assistance expertise, materials and other resources to a variety of potential users. We intend to facilitate the sharing of information by maintaining a common portal, but this does not preclude an individual center from establishing and maintaining its own Web site. Detailed requirements for the use of the portal by the Comprehensive Centers will be established in the centers' cooperative agreements with the Department.

Changes: None.

Comment: One commenter requested clarification of the requirement that all centers make their materials and products freely available.

Discussion: All Comprehensive Centers are required to make all training materials, rubrics, manuals, presentations, and other materials developed during the grant period available to the public at no cost through the online portal described in paragraph II(A)(3) of the requirements section of this notice. Centers may also publish materials and products on their own Web sites or through other means.

Changes: None.

Comment: One commenter requested clarification of the requirement that centers identify, track, and assess innovative approaches and promising practices. Specifically, the commenter requested clarification on how and in what ways the Content Centers will be able to assess the value of the promising practices and innovative approaches that they will be expected to identify, synthesize, and disseminate.

Discussion: We encourage applicants, when identifying and assessing the value of promising practices, to look, for example, to the evidence standard of a reasonable hypothesis as used in the Department's Investing in Innovation program. Relying on the reasonable hypothesis standard, the approach or reported practice should suggest the potential for efficacy for at least some participants and settings. The center should consider whether the proposed practice, strategy, or program, or one similar to it, has been attempted previously, albeit on a limited scale or in a limited setting, and yielded promising results that suggest that more formal and systematic study is warranted. The center should also consider whether there is a rationale for the proposed practice, strategy, or program that is based on research findings or reasonable hypotheses.

Changes: None.

Comment: One commenter supported the focal areas for the proposed Content Centers but wanted to ensure that all of the centers focus on students.

Discussion: The purpose of both Regional and Content Centers is to help build the capacity of States to better lead and support their LEAs and schools in improving student outcomes. We believe the priorities, requirements, and selection criteria are consistent with this purpose and thus will ensure that all of the centers focus on students.

Changes: None.

Comment: None.

Discussion: In order to clarify that all Comprehensive Centers must establish an advisory board, the Department has added a specific reference to the statutory citation.

Changes: Under the requirements for all centers to coordinate and collaborate, the Department has added a specific reference to section 203(g) of the ETAA and its requirement that all Comprehensive Centers establish an advisory board.

Requirements for All Regional Centers

Comment: One commenter proposed amending the language of the priority and requirements for all Regional Centers so as to require those centers to identify related-service providers in addition to teachers and leaders when discussing Regional Center technical assistance to SEAs. Doing this would ensure that these providers are included in overall efforts related to education professionals.

Discussion: We agree that related-service providers play a key role in supporting student achievement and that schools and districts face many of the same issues in recruiting, developing, and retaining related-service providers as they do for classroom teachers and other school professionals, such as guidance counselors and librarians. While we do not explicitly mention these educators in the priority or requirements, the Regional Centers have the flexibility to work with SEAs seeking technical assistance to support effective instruction and leadership of all educators. Therefore, we decline the suggestion to identify specific categories of educators in the priority or requirements for the Regional Centers.

Changes: None.

Comment: One commenter suggested that all Regional Centers should possess the same knowledge and understanding that is required of applicants for the Center on Building State Capacity and Productivity, asserting that Regional Centers able to draw on their own expertise in this area will have a significant advantage over those that will need to rely entirely on this Content Center. The commenter suggested revising the requirements for all Regional Centers to clarify that a grantee must provide technical assistance that draws on the expertise of the Center on Building State Capacity and Productivity as well as on its own research and experience conducted in non-education sectors and industries.

Discussion: We agree that the work of building SEA capacity must be the responsibility of all Comprehensive Centers and acknowledge that experience in providing this type of technical assistance is valuable. Applicants for Regional and Content Centers must have knowledge and understanding of research-based practices, emerging promising practices, and specific expertise in providing high-quality, relevant technical assistance to States or multiple districts. We believe that possessing this knowledge and expertise will enable an applicant to provide high-quality technical assistance specifically related to building SEA capacity. Therefore, we decline to include an additional requirement for Regional Center applicants as suggested in the comment.

Changes: None.

Requirements for All Content Centers

Comment: One commenter inquired whether the Content Centers could develop new content, noting that Regional Centers may not.

Discussion: The Content Centers are expected to develop high-quality publications, tools, and other resources as described in the Requirements for All Content Centers section of this notice.

Changes: None.

Comment: One commenter noted that it appeared that of all of the Content Centers, only applicants for the Center on School Turnaround would be required to address any of the affective dimensions related to student outcomes. The commenter suggested that applicants for every center should be required to specify how they will assure that relevant equity issues are addressed.

Discussion: As stated previously, the purpose of the Comprehensive Centers is to provide technical assistance in identified priority areas to help SEAs build their capacity to improve educational outcomes for all students, close achievement gaps, and improve the quality of instruction. Nothing in this notice would prevent a Regional or Content Center from working with an SEA to address the affective dimensions of student achievement including relevant equity issues in order to address one of these priority areas.

Changes: None.

Requirements for Center on Enhancing Early Learning Outcomes

Comment: One commenter recommended that the center be required to address the needs of at-risk young children and to work on strengthening the transitions, cross-sector collaborative care, and education of pre-school children.

Discussion: As described in the program requirements, the Center on Enhancing Early Learning Outcomes will provide technical assistance to Regional Centers and SEAs that supports coordinated statewide systems that promote young children's success in school and helps SEAs align policies and resources to increase the successful transitions of children and to close the achievement gap, particularly for high-need children as they enter kindergarten. As these suggestions are reflected in the original language, we decline to make the recommended changes.

Changes: None.

Comment: One commenter, while expressing support for the creation of a Center on Enhancing Early Learning Outcomes, recommended expanding the intended audiences for the center's technical assistance beyond SEAs, to include agencies that oversee early learning programs in the States, such as Early Learning Councils and Head Start Collaboration Offices. The commenter stated that this expansion would be especially important in States with new agencies that oversee early learning and where the SEA does not have major responsibilities for early learning programs.

Discussion: The ETAA authorizes the Comprehensive Centers to provide training, technical assistance, and professional development to SEAs, LEAs, regional educational agencies, and schools only. We therefore cannot expand the types of entities receiving services under this program. However, the Center on Enhancing Early Learning Outcomes may interact with other State agencies, such as those mentioned by the commenters, where appropriate to support their work with SEAs.

Changes: None.

Comment: One commenter suggested that the Center on Enhancing Early Learning Outcomes specifically assist those States that have received Race to the Top-Early Learning Challenge (RTT-ELC) funds and those that have successfully developed plans to increase access to high-quality early learning systems, especially for high-need children. The commenter also recommended including additional requirements for this center that are aligned with the RTT-ELC program and that focus on addressing effective instructional practices, developmentally appropriate learning environments, State capacity to use data, and effective governance structures.

Discussion: By statute, grantees under the Comprehensive Centers program must provide technical assistance to all States. Therefore, we are requiring this center to support all States, including States that have received RTT-ELC grants. Under the requirements in this notice, the Center on Enhancing Early Learning Outcomes must provide technical assistance on using assessment data and other information to improve the quality of instruction in early learning programs and to increase the capacity of SEAs to implement comprehensive and aligned early learning systems. This technical assistance may include the areas suggested by the commenter.

Changes: None.

Comment: A number of commenters suggested a variety of additional areas deserving the attention of the Center for Enhancing Early Learning Outcomes: Addressing the needs of young English Learners, implementing STEM curricula and instructional strategies, supporting the extension of standards related to multiple domains of child development, analyzing costs of alternative policies and practices, ensuring that parents and caregivers understand data, and providing quality pre-service and in-service professional development for teachers and related service providers.

Discussion: We agree that there are many topics that the Center for Enhancing Early Learning Outcomes could address in order to help increase the number of children who are prepared to succeed in school. We note that while the requirements for this center do not list each of the areas identified above, they also do not limit the early learning issues that might be addressed in the work plans developed by the center in collaboration with Regional Centers and SEAs. Again, we believe it is important to allow centers flexibility to be responsive to State needs.

Changes: None.

Comment: One commenter recommended that the center's first priority should be expanding existing programming and increasing access for more students.

Discussion: We strongly agree that increasing young children's access to high-quality early learning environments is critical. In this regard, the Center on Enhancing Early Learning Outcomes will help SEAs increase the quality of early learning systems and thereby provide more opportunities for children to learn in high-quality environments. However, the purpose of the Comprehensive Centers program, consistent with the ETAA, is to provide technical assistance to SEAs, not to take actions that directly result in expanded programming or increased participation in early learning programs.

Changes: None.

Comment: One commenter asked the Department to clarify how the center will coordinate and collaborate with other federally funded early childhood technical assistance centers to avoid duplication of effort.

Discussion: All centers will be required to collaborate with other technical assistance providers to address SEA needs and to develop strong relationships and partnerships with leading experts and organizations nationwide, including other federally funded technical assistance centers. The Center on Enhancing Early Learning Outcomes must provide technical assistance to Regional Centers and SEAs that focuses on integrating and aligning resources and policies across State agencies and programs in order to support a coordinated statewide system that promotes young children's success in school.

Changes: None.

Requirements for the Center on School Turnaround

Comment: One commenter suggested modifying the requirements for the Center on School Turnaround to require an emphasis on parent support, including on helping parents understand data on low-performing schools.

Discussion: The Center on School Turnaround must provide technical assistance to help increase the capacity of SEAs to support their districts and schools in turning around their low-performing schools, and these turnaround efforts often include increasing parent and family involvement. The overwhelming majority of schools identified under the School Improvement Grants program are implementing turnaround models that include engagement activities such as increasing the involvement and contributions of parents and community partners. All centers may provide technical assistance that builds the capacity of SEAs to improve family and community engagement, if SEAs identify this as a high-priority need. For these reasons, we have decided that it is not necessary to add an additional requirement for the Center on School Turnaround.

Changes: None.

Comment: One commenter suggested amending the requirements for the Center on School Turnaround to recognize the communication needs of students with disabilities as a non-academic factor that affects student achievement.

Discussion: We recognize the need for the lowest performing schools to meet the needs of all students by addressing both academic and non-academic factors that affect student achievement. While we identify some non-academic factors (social, emotional, and health needs) in the requirements for the Center on School Turnaround, we do not present them as an exhaustive list. Our identifying certain non-academic factors will not preclude the center from addressing additional non-academic factors with SEAs, and we don't believe that attempting to identify all those factors is necessary. Therefore, we decline to amend the requirement.

Changes: None.

Requirements for the Center on Innovations in Learning

Comment: A number of commenters recommended that the Center on Innovations in Learning focus on Universal Design for Learning (UDL) and cited the need for technical assistance in UDL for SEAs and Regional Centers and professional development in UDL for educators.

Discussion: The purpose of the Center on Innovations in Learning is to provide technical assistance to help SEAs identify and implement a broad array of policies, strategies, and practices that significantly improve, or have the potential to significantly improve, student outcomes. These strategies may include UDL, which is an effective framework for engaging learners with different abilities, backgrounds, and motivations. However we decline to require the inclusion of UDL because we believe it is important to allow centers flexibility to be responsive to State needs.

Changes: None.

Comment: One commenter proposed amending the requirements for the Center on Innovations in Learning to specify classroom amplification systems as an example of technologies that support the personalization of learning. Discussion: While recognizing the value of classroom amplification systems for certain students, the requirement to help SEAs select and implement technologies that support the personalization of learning is intended to apply to all students, whether or not they have hearing impairments. The Center is required to help SEAs identify and implement policies, strategies, and practices that encourage the identification and scaling up of new teaching and learning strategies, approaches, processes, or tools that have the potential to significantly improve student outcomes. Classroom amplification systems may be essential to meeting the learning needs of some students, and, if so, those requirements would be detailed in that student's Individualized Education Program. Therefore, we decline to make the requested change.

Changes: None.

Requirements for the Center on College and Career Readiness and Success

Comment: One commenter asked for clarification of how the Center on College and Career Readiness and Success will work with the Regional Centers on its areas of focus.

Discussion: The Content Centers will work to increase the depth of knowledge and expertise available to Regional Centers and SEAs on key topic areas and complement the work of the Regional Centers by providing information, publications, tools, and specialized technical assistance based on research-based practices and emerging promising-practices. The Content Centers will identify, organize, and communicate key research and best practices through publications, tools, and direct technical assistance. They may also create opportunities for SEAs and Regional Centers to learn from researchers and other experts about practical strategies for implementing reforms related to their focal areas. The Center on College and Career Readiness and Success will engage in these tasks in its area of focus as described in the priority and program requirements.

Changes: None.

Comment: One commenter requested clarification regarding the extent to which the Center on College and Career Readiness and Success could collaborate directly with institutions of higher education (IHEs) and systems or facilitate SEA collaboration with them.

Discussion: We acknowledge that some technical assistance activities listed under the requirements for the Center on College and Career Readiness and Success, such as implementing accelerated learning strategies or developing rigorous career and technical education programs, might necessitate substantive collaboration between SEAs and IHEs. However, other areas of activity might not. However, in order to provide technical assistance on some of the activities, we acknowledge that the Center might facilitate SEA collaboration with IHEs. We choose not to define a minimum or maximum level of SEA collaboration with IHEs. We will instead rely on the center to meet the requirements through varying levels of collaboration between SEAs and IHEs, as appropriate.

Changes: None.

Comment: One commenter requested clarification on the requirement of experience working with K-12 and postsecondary education systems for the Center on College and Career Readiness and Success. The commenter questioned whether this requirement would address State and district K-12 systems, public and private postsecondary systems, and the systems of individual institutions.

Discussion: We expect that grantees will have the experience and knowledge necessary to successfully provide technical assistance as described in the program requirements. Applicants are required to provide evidence of (1) working with SEAs or multiple districts to design and implement systemic, comprehensive strategies to improve student transitions from high school to postsecondary degree or credential programs, and (2) working with K-12 and postsecondary education systems to align policies and practices in order to improve student transitions from high school to postsecondary degree or credential programs. This experience and knowledge could be gained in a variety of ways. However, we do not require applicants to have experience with specific types of higher education institutions.

Changes: None.

Comment: To help develop rigorous career and technical education programs, one commenter suggested including additional examples to the list of possible activities for the Center on College and Career Readiness and Success. These could include support for collaboration with labor unions and for enrollment in apprenticeship programs.

Discussion: The Center on College and Career Readiness and Success must provide technical assistance to Regional Centers and SEAs that focuses on SEA development and scaling up of statewide rigorous career and technical education (CTE) programs that align with college- and career-ready standards and lead to an industry-recognized credential or postsecondary certificate or degree. We provide some examples of how that might be accomplished and recognize that many others could be included. Nothing in the language of this notice precludes the center from working with SEAs and Regional Centers on the activities recommended by the commenter.

Changes: None.

Requirements for Center on Great Teachers and Leaders

Comment: One commenter suggested requiring that the Center on Great Teachers and Leaders provide technical assistance focused on supporting a positive school culture, high expectations, family and community involvement, and community leadership development.

Discussion: The Center on Great Teachers and Leaders will provide technical assistance to help SEAs and Regional Centers support effective instruction and leadership; improve student outcomes; and identify, synthesize, and disseminate research-based practices and emerging promising practices. The requirements for this Center identify a number of issues that must be addressed, including improving instructional practices; ensuring the equitable distribution of effective teachers; and developing strategies to recruit, reward, retain, and support effective teachers and leaders. To the degree that the issues mentioned by the commenter are related to these requirements and the Center's priority, and to the extent that the SEA seeks assistance in addressing them, this Center could provide needed technical assistance. Therefore, we decline to add the suggested requirements.

Changes: None.

Requirements for the Center on Building State Capacity and Productivity

Comment: One commenter suggested that the Center on Building State Capacity and Productivity provide technical assistance to help SEAs hold their LEAs accountable.

Discussion: The purpose of the Center on Building State Capacity and Productivity is to provide technical assistance and identify, synthesize, and disseminate research-based practices and emerging promising practices that will increase the capacity of SEAs to implement their key initiatives statewide and support district and school-level implementation of effective practices to improve student outcomes. Therefore, nothing precludes this center from working with an SEA on approaches for holding its LEAs accountable when the work is related to implementing statewide initiatives to improve student outcomes.

Changes: None.

Comment: One commenter suggested that the Center on Building State Capacity and Productivity help SEAs identify supports and interventions to address not only the needs of districts and schools but also the needs of parents and caregivers.

Discussion: Under the requirements for this Center, grantees are expected to provide technical assistance that builds the capacity of SEAs to better support their districts and schools. This support includes helping districts and schools communicate more effectively with parents and caregivers. Nothing in the priority or requirements for this center would prevent the Center from working with the SEA to address this issue to the extent that the SEA identifies it as an area in which it could benefit from the Center's capacity-building technical assistance. Therefore, we do not think it necessary to add to the requirements.

Changes: None.

Application Requirements

General

Comment: One commenter recommended that in addition to demonstrating the capacity and experience of key staff, applicants be required to demonstrate corporate capacity and experience. The commenter also suggested that experience providing technical assistance for a variety of education constituencies through vehicles other than the Comprehensive Centers be given consideration equal to that given for work conducted through the Comprehensive Centers.

Discussion: In the application requirements, we identify the subject-matter and technical expertise that applicants must demonstrate. We assume that the expertise of key staff reflects the corporate capacities and experience of the applicant that proposes them. Additionally, the selection criteria state that we will evaluate not only key personnel but also the quality of the proposed technical assistance plan, project design, and management plan. When reviewing applications, we will consider all relevant experience. We will not award additional points or give special consideration to applicants that demonstrate experience conducting technical assistance through a Comprehensive Center.

Changes: None.

Comment: Two commenters requested clarification of the application requirement that centers engage the services of an external evaluator.

Discussion: Upon further review and consideration, we have revised the evaluation requirements. We have removed the requirement for a third party evaluation. However, we do believe that evaluation and continuous assessment of the Centers' performance are important parts of providing useful and relevant technical assistance to SEAs. Therefore, we still require each applicant to include in the application a plan to assess its own progress and performance. Additionally, to ensure that the evaluations are of high quality, measurable, and comparable for all centers, we are revising the title of this subsection to include the word “performance” and to require that the plan include results-based outcomes.

Changes: In paragraph II(A)(4) of the Requirements for all Centers section, we have revised the title of the subsection to read “Performance and Evaluation” and deleted the requirement that a third party perform an evaluation of the program. Additionally, in section III(K)(4) of the Application Requirements, we have revised the title of the subsection to read “Performance and Evaluation Plan,” deleted the reference to a third-party evaluator, and included clarifying language regarding the plan requirements. We specify that the plan must include a set of performance objectives the project intends to achieve and performance measures for each performance objective, which must include results-based outcomes; explain the qualitative and quantitative methods that will be used to collect, analyze, and report performance data; and describe the methods that will be used to monitor progress and make mid-course corrections as needed.

Center on Enhancing Early Learning Outcomes

Comment: A few commenters recommended adding requirements to the subject-matter and technical-expertise requirements for the Center on Enhancing Early Learning Outcomes. One commenter advised that in addition to the experience we proposed, grantees would need experience with professional development for early childhood educators, Head Start, and child care. A few commenters recommended additional expertise requirements, including participation in early childhood collaborative efforts, participation in projects focused on at-risk young children, and knowledge of the developmental and learning needs of young children. Another commenter recommended that consideration be given to requiring applicants to demonstrate capacity to produce substantive change in policy and practice.

Discussion: We agree that in order to provide high-quality technical assistance that will help SEAs increase their capacity to implement comprehensive and aligned early learning systems, grantees should have additional areas of expertise. Therefore, we are revising the application requirements for the Center on Enhancing Early Learning Outcomes to include additional requirements. We note that the subject-matter and technical expertise requirements for all centers include the expectations that an applicant demonstrate experience in building collaborative relationships and that an applicant provide evidence of the effect of its technical assistance on improving student outcomes.

Changes: We have added two requirements to applications for the Center on Enhancing Early Learning Outcomes. An applicant must provide evidence demonstrating that it possesses knowledge and understanding of developmentally appropriate practices for early learning and of State early learning systems, and an applicant must demonstrate that the proposed center staff have experience in working with publicly funded early learning programs, such as State-funded preschool, Head Start, programs funded under section 619 of part B of IDEA and part C of IDEA; programs funded under Title I of the ESEA; and programs receiving funds from the State's Child Care Development Fund (CCDF).

Flexibility and Requirements for Regional Center Assignments

Comment: Many commenters were concerned about the proposed flexibility requirements for Regional Center assignments. Commenters noted that the flexibility may deter collaboration and communication among Regional and Content Centers. Specifically, they were concerned that the flexibility would create a competitive dynamic that would hinder cross-center and cross-State collaboration.

Commenters agreed that SEAs unhappy with the level of service by their assigned Regional Center should have mechanisms for obtaining quality service. However, commenters were concerned that reassigning States to certain centers two years into a grant would be difficult to implement and affect the continuity of State work.

They noted that an SEA changing affiliation would have to invest additional time in developing relationships with the new center, possibly creating gaps in service. Commenters were also concerned that other States in the region might experience gaps in service while the Regional Center takes on the work of the additional SEA. They noted that the flexibility could create difficulties in the planning and staffing of Regional Centers. Finally, commenters were concerned that centers with large marketing budgets might have an advantage in promoting their services to SEAs. One commenter, however, supported our proposal, noting that flexibility would strengthen incentives to provide relevant and high-quality service and would allow States to maximize their ability to collaborate with peer States that share their reform goals and strategies.

Discussion: We appreciate the concerns raised by the commenters and acknowledge that the flexibility may create a competitive dynamic among centers. However, we believe that the best way to implement a customer-centered, performance-focused technical assistance network is to allow States to create a demand-driven market for services. We disagree that this flexibility will deter collaboration and communication among Regional and Content Centers. In order to provide quality technical assistance sought after by States, centers must continue to collaborate and take advantage of the expertise of both Content and Regional Centers. Regional Centers that collaborate with other centers across regional boundaries are often better able to provide technical assistance to their States. Therefore, it will be in the best interest of every center to work with other centers to improve the quality of technical assistance across the country.

We acknowledge that there may be implementation challenges when a State requests reassignment. We agree that SEAs unsatisfied with their current center should have more than one mechanism for obtaining quality service. For these reasons, the Department has added clarifying information about how and when a State may request reassignment. In addition, once a State has requested reassignment, the current Regional Center will have time to work with the State to resolve any quality-of-service issues prior to the Department considering the request for reassignment.

We also acknowledge that there may be a temporary gap in services when a State is assigned to a different Regional Center. However, prior to requesting reassignment, the State must obtain documentation from the new Regional Center indicating its willingness and capacity to serve the additional State. As a result of this process, the new Regional Center should already be effectively planning and working with the State to develop a strategy for continuing services to the State while maintaining the same level of service for all of its current States.

Finally, we disagree with those commenters suggesting that Regional Centers with larger marketing budgets have an advantage over centers with smaller budgets. States are likely to request reassignment in order to seek services that they believe will best meet their needs, regardless of location or marketing initiatives. Further, we agree with the comment that supports this flexibility because it would allow States to maximize their ability to collaborate with peer States that share their reform goals and strategies.

Changes: We have clarified the process for a State to request reassignment to a different Regional Center. In its request, an SEA must provide its specific reasons for requesting reassignment. The Department will notify the current Regional Center immediately after receiving the request for reassignment. We have also added time to the process of requesting reassignment to allow the current Regional Center time to work with the State to resolve any quality-of-service issues prior to the Department considering the request for reassignment.

Cost Sharing or In-Kind Match

Comment: A number of commenters objected to the proposal to establish a competitive preference priority for applicants that provide evidence of a commitment of funds or an in-kind match, or both, that totals at least 15 percent of the total grant budget. The commenters expressed a number of concerns.

They stated that external funders would expect to have a significant voice in Center decision-making, especially as the rate of cost-sharing increased. Commenters were also concerned that the complexity of tracking separate sources of funds would pose a significant burden. Commenters noted that the current economic climate in general has increased the difficulty of obtaining funds and that applicants could find themselves in competition with States for the limited available funds. Commenters also stated that large foundations would be more inclined to fund projects with national scope and a tangible potential product and less likely to fund regional technical assistance. Finally, commenters voiced concern that applicants with an already established relationship with philanthropic organizations might have an unfair advantage. One commenter stated that the Department did not present a strong justification explaining why the program would benefit from this priority.

Discussion: The Comprehensive Centers program represents a significant investment in technical assistance to SEAs. We are committed to supporting SEAs, districts, and schools as they work to implement their reform priorities. Because of the importance of these technical assistance efforts, we believe that there is significant value in securing additional funding to support SEA capacity-building. Combining the Department's efforts and resources with external efforts and resources provides an opportunity to increase and extend the reach of the Comprehensive Centers program. For these reasons, we remain committed to providing incentives for additional investments in the work of the centers.

However, we also acknowledge the challenges of securing matching funds and managing multiple partnerships. Therefore, for the FY 2012 competition, we will use this priority only as an invitational priority. We indicate this in the notice inviting applications published elsewhere in this issue of the Federal Register. We also remove the “competitive preference” designation from the priority and in this notice of final priorities, requirements, and selection criteria (NFP). Not designating it as absolute, competitive preference, or invitational in the NFP will allow the Department flexibility in using the priority in future competitions.

Changes: We have revised the priority for cost-sharing or matching to remove the competitive preference designation.

Selection Criteria

Comment: One commenter suggested that we add to the selection criteria a criterion on the demonstrated ability to provide analytically based technical assistance. The commenter cited the usefulness of technical assistance that improves the analytic capacity of the SEA and its contribution to data-based decision-making.

Discussion: We acknowledge the usefulness of technical assistance that improves the analytic capacity of SEAs and contributes to their skill in making data-based decisions. Regional Centers will be required to provide technical assistance that builds SEA capacity to implement, support, scale up, and sustain initiatives that address the use of data-based decision-making to improve instructional practices, policies, and student outcomes. In addition, the requirements for the Center on Building State Capacity and Productivity include helping SEAs identify research-based practices and emerging promising practices in such areas as human capital management, financial data systems, and return-on-investment analyses that can inform decision-making and help improve SEA productivity. We will use the selection criteria to determine the extent to which applicants meet these requirements. Therefore, we do not believe it is necessary to add an additional selection criterion.

Changes: None.

Comment: One commenter asked whether the criterion that requires that Content Centers demonstrate evidence of in-depth knowledge and understanding of State technical assistance needs means that a center must have a broad view of the kinds of needs that all or many States have, or an in-depth understanding of the needs of each State.

Discussion: As described in the requirements in this notice for all Content Centers, each Center must both assess national needs and take into account the needs of SEAs and Regional Centers in its area of expertise.

Changes: None.

FINAL PRIORITIES:

I. Priorities

This notice contains eight priorities. The Assistant Secretary may use one or more of these priorities for the FY 2012 Comprehensive Centers program competition or for any subsequent competitions.

PRIORITY FOR REGIONAL CENTERS:

Priority 1: Regional Centers. Each Regional Center must provide high-quality technical assistance that focuses on key initiatives, aligns with the work of the Content Centers, and builds the capacity of SEAs to implement, support, scale up, and sustain initiatives statewide and to lead and support their LEAs and schools in improving student outcomes. Key initiatives include: (1) Implementing college- and career-ready standards and aligned, high-quality assessments for all students; (2) identifying, recruiting, developing, and retaining highly effective teachers and leaders; (3) turning around the lowest-performing schools; (4) ensuring the school readiness and success of preschool-age children and their successful transition to kindergarten; (5) building rigorous instructional pathways that support the successful transition of all students from secondary education to college without the need for remediation, and careers; (6) identifying and scaling up innovative approaches to teaching and learning that significantly improve student outcomes; and (7) using data-based decision-making to improve instructional practices, policies, and student outcomes.

PRIORITIES FOR CONTENT CENTERS:

Priority 2: Center on Standards and Assessments Implementation. The Center on Standards and Assessments Implementation must provide technical assistance and identify, synthesize, and disseminate research-based practices and emerging promising practices that will lead to the increased capacity of SEAs to support their districts and schools in implementing rigorous college- and career-ready standards and aligned high-quality assessments.

Priority 3: Center on Great Teachers and Leaders. The Center on Great Teachers and Leaders must provide technical assistance and identify, synthesize, and disseminate research-based practices and emerging promising practices that will lead to the increased capacity of SEAs to support their districts and schools in improving student outcomes by supporting effective instruction and leadership.

Priority 4: Center on School Turnaround. The Center on School Turnaround must provide technical assistance and identify, synthesize, and disseminate research-based practices and emerging promising practices that will lead to the increased capacity of SEAs to support their districts and schools in turning around their lowest-performing schools.

Priority 5: Center on Enhancing Early Learning Outcomes. The Center on Enhancing Early Learning Outcomes must provide technical assistance and identify, synthesize, and disseminate research-based practices and emerging promising practices that will lead to the increased capacity of SEAs to implement comprehensive and aligned early learning systems in order to increase the number of children from birth through third grade who are prepared to succeed in school.

Priority 6: Center on College and Career Readiness and Success. The Center on College and Career Readiness and Success must provide technical assistance and identify, synthesize, and disseminate research-based practices and emerging promising practices that will lead to the increased capacity of SEAs to support districts and schools in implementing comprehensive strategies that promote college- and career-readiness for students in kindergarten through grade 12 (K-12) and ensure the successful transition of all students from high school graduation to postsecondary education and the workforce.

Priority 7: Center on Building State Capacity and Productivity. The Center on Building State Capacity and Productivity must provide technical assistance and identify, synthesize, and disseminate research-based practices and emerging promising practices that will increase the capacity of SEAs to implement their key initiatives statewide and support district- and school-level implementation of effective practices to improve student outcomes.

Priority 8: Center on Innovations in Learning. The Center on Innovations in Learning must provide technical assistance and identify, synthesize, and disseminate research-based practices and emerging promising practices that will lead to the increased capacity of SEAs to identify and scale up innovative approaches that significantly improve, or have the potential to significantly improve, student outcomes.

PRIORITY FOR ALL CENTERS:

Priority: Cost-Sharing or Matching. Applications that provide evidence in the application of a commitment from one or more entities or organizations in the public or private sector, which may include philanthropic organizations, of funds or an in-kind match, or both, that totals at least 15 percent of the total grant budget meet this priority. The entire amount of the matching contribution must be non-Federal funds. See 34 CFR 80.24. Evidence of the commitment of the financial or in-kind matching contribution must include the full amount and source of the matching contribution and the date that the funds or in-kind contributions will be received. Examples of such evidence include funding agreements with a public or private-sector entity or other signed documents such as commitment letters. The evidence should not include contingencies that raise concerns about the funding commitment other than that the applicant must be awarded a Comprehensive Centers grant award.

If the Department chooses to designate this priority as competitive in a notice inviting applications, we may provide additional points for applicants that provide evidence of matching funds or in-kind contributions in excess of 15 percent of its grant budget. Additional points may be awarded to the extent that the applicant provides evidence of a committed financial or in-kind matching contribution up to 100 percent of its grant budget. The Department would also specify in the notice inviting applications the number of points to be awarded for specific ranges of matching amounts.

Types of Priorities: When inviting applications for a competition using one or more priorities, and unless already established as a specific type of priority through regulation, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

II. Comprehensive Center Requirements

The Assistant Secretary of Elementary and Secondary Education establishes the following requirements.¹

¹ As used in these requirements, the term “high-need children and high-need students” means children and students at risk of educational failure, such as children and students who are living in poverty, who are English Learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

A. Requirements for All Centers.

1. Provide high-quality technical assistance. Each center must deliver technical assistance that is based on research-based practices and emerging promising practices; highly relevant and useful to SEAs, LEAs, and school policymakers and practitioners; timely; and cost efficient.

2. Provide technical assistance to build State capacity. Each center must provide technical assistance to help SEAs build their capacity to implement State-level initiatives and support district- and school-level initiatives that improve educational outcomes for all students, close achievement gaps, and improve the quality of instruction.

For the purposes of this notice, the process of “building capacity” includes helping SEAs—

a. Build internal organizational strength through such activities as creating sustainable organizational structures and effective performance management systems, building staff expertise within those structures to ensure that districts and schools are provided high-quality services and supports, and better aligning programs and policies through strengthening connections (e.g., communication, collaboration) among different work streams (e.g., divisions, grant programs); and

b. Build organizational capacity to support district- and school-level implementation of effective practices to improve student outcomes—for example, by working collaboratively and productively with districts and schools; identifying and implementing a continuum of supports and interventions to address the needs of districts and schools; supporting the implementation and scaling up of innovative and effective strategies; sustaining effective practices; engaging effective external service providers; and involving key stakeholders, including parents, in decision-making.

3. Coordination and Collaboration. In addition to the statutory requirement under section 203(f)(2) and (g) of the ETAA to collaborate with the Department and other entities and to establish an advisory board, each center must collaborate with other Comprehensive Centers funded under this program; the Institute of Education Sciences (IES), including the What Works Clearinghouse and the RELs; technical assistance centers funded under other Department programs; and other technical assistance providers to address SEA needs. Each center must—

a. Develop strong, ongoing relationships and partnerships with leading experts and organizations nationwide to supplement and enhance, as appropriate, center staff's expertise, skills, and experience and to ensure that technical assistance is informed by research-based practices and emerging promising practices;

b. Coordinate center activities with the work of other technical assistance providers to make the best use of available knowledge and resources and avoid duplicating efforts; and

c. Participate in sharing and exchanging information through a common online portal administered by a center funded by the Department for the purpose of sharing technical assistance expertise, materials, and other applicable resources across Comprehensive Centers, other Department-funded technical assistance providers, SEAs, districts, and schools.

4. Performance and Evaluation. Each center must develop a plan to assess the progress and performance of the center in meeting the educational and capacity-building needs of the center's clients.

B. Requirements for All Regional Centers. In addition to the requirements for all centers described in this notice, each Regional Center must—

1. Assess each State's needs and develop an annual work plan in partnership with each SEA in its region and the Content Centers, as appropriate, that—

a. Provides technical assistance to build SEA capacity to implement, support, scale up, and sustain initiatives that address the following key areas: (1) Implementing college- and career-ready standards and aligned, high-quality assessments for all students; (2) identifying, recruiting, developing, and retaining highly effective teachers and leaders; (3) turning around the lowest-performing schools; (4) ensuring the school-readiness and success of preschool-age children and their successful transition to kindergarten through third grade learning; (5) building rigorous instructional pathways that support the successful transition of all students from secondary education to college, without the need for remediation, and to careers; (6) identifying and scaling up innovative approaches to teaching and learning that significantly improve, or have potential to significantly improve, student outcomes; and (7) using data-based decision-making to improve instructional practices, policies, and student outcomes;

b. Addresses the needs of each SEA in the region based on the SEA's unique context, challenges, and current capacity;

c. Articulates an approach to secure an SEA's commitment to devote time, leadership, and personnel needed to implement the work plan and achieve specific goals, which may include a memorandum of understanding or similar agreement that contains timelines and benchmarks to ensure that the work stays on track to achieve these goals.

d. Addresses the demands of implementing integrated State longitudinal data systems and using data from these systems and other sources to improve student outcomes, in collaboration with RELs, as appropriate; and

e. Addresses the needs of all students, including English Learners, students with disabilities, and high-need students;

2. Deliver high-quality intensive technical assistance to SEAs that—

a. Provides regular virtual and on-site support and coaching at a frequency appropriate to ensuring high-quality implementation of the work plan;

b. Facilitates collaborative activities and strategies for evaluating and continuously improving organizational structures and processes;

c. Draws on the expertise of the Center on Building State Capacity and Productivity;

d. Facilitates productive SEA interactions with LEAs and other stakeholders to support implementation of key initiatives focused on improving student outcomes;

e. Helps SEAs implement researched-based practices and emerging promising practices identified by the Content Centers and other leading experts and organizations nationwide; and

f. Provides opportunities for SEAs to meet with and learn from researchers, experts, and each other about practical and effective strategies for implementing key initiatives, including by, for example, organizing or facilitating SEA participation in communities of practice; and

3. Make all training materials, rubrics, manuals, presentations, and other materials developed during the grant period publicly and freely available through the online portal described in the coordination and collaboration requirement for all centers.

Note: The requirements for all Regional Centers do not support the development of new content. A Regional Center applicant will not satisfy these requirements if it proposes a technical assistance plan that includes development work, such as designing or developing curricula or instructional materials for use in classrooms, developing educational programs, or conducting research, monitoring, or program evaluations for an SEA. A Regional Center may propose to create materials to be used in capacity-building activities with the SEA, such as decision matrices, written responses to information requests, self-assessment rubrics, or presentation materials. In addition, to the extent that an applicant proposes to work with individual school districts or schools, the applicant must propose technical assistance that reaches a large number or proportion of districts or schools in the State, responds to a need identified by an SEA, and is planned, coordinated, and executed in concert with the SEA.

C. Requirements for All Content Centers. In addition to the requirements for all centers described in this notice, each Content Center must

1. Assess national needs and develop an annual work plan that—

a. Takes into account the needs of SEAs and Regional Centers in its area of expertise;

b. Addresses its specific area of expertise; and

c. Addresses the needs of all students, including English Learners, students with disabilities, and high-need students;

2. Deliver high-quality technical assistance to Regional Centers and SEAs in its area of expertise that—

a. Reflects collaboration with Regional Centers to address identified needs of SEAs;

b. Provides opportunities for SEAs to learn from researchers, experts, and each other by, for example, participating in, organizing, or facilitating SEA participation in communities of practice; and

c. Differentiates the delivery of technical assistance based on the current capacity and needs of the Regional Centers and SEAs;

3. Translate expertise, research-based practices and emerging promising practices into high-quality publications, tools, and services appropriate for SEAs, LEAs, and school policymakers and practitioners; and

4. Make all training materials, rubrics, manuals, presentations, and other materials developed during the grant period publicly and freely available through the online portal described in the coordination and collaboration requirement for all centers.

D. Requirements for the Center on Standards and Assessments Implementation. In addition to the requirements for all centers and for all Content Centers described in this notice, the Center on Standards and Assessments Implementation must provide technical assistance to Regional Centers and SEAs that focuses on—

1. State implementation of college- and career-ready standards for students and schools statewide, as well as State development and administration of aligned high-quality assessments such as those under development by the Race to the Top Assessment program grantees (http://www2.ed.gov/programs/racetothetop-assessment/index.html) and by General Supervision Enhancement Grants (GSEG) program grantees, who are developing alternate assessments based on alternate academic achievement standards for students with the most significant cognitive disabilities;

2. The instructional implications of transitioning to new standards, including the need for aligned, high-quality instructional materials and high-quality professional development and other supports to prepare teachers to teach all students, including English Learners, students with disabilities, and low-achieving students, to college- and career-ready standards;

3. Integrating new standards and assessments with State accountability systems and State, district, and school teacher and leader support and evaluation systems; and

4. Using assessment data and other measures of student performance to inform instruction, differentiate school performance levels, and evaluate district and school improvement policies and activities.

E. Requirements for the Center on Great Teachers and Leaders. In addition to the requirements for all centers and for all Content Centers described in this notice, the Center on Great Teachers and Leaders must provide technical assistance to Regional Centers and SEAs that focuses on—

1. Developing the knowledge and skills of teachers and leaders, with emphasis on improving instructional practices that help students meet college- and career-ready standards;

2. Strategies to ensure the equitable distribution of effective teachers and to meet demand in hard-to-staff schools and subjects and in rural areas;

3. Strategies to recruit, reward, retain, and support effective teachers and leaders by, for example, offering opportunities for career advancement;

4. Developing and implementing teacher and leader human capital management systems (e.g., systems related to recruiting, evaluating, developing, rewarding, and retaining teachers and leaders), including teacher and leader evaluation and support systems that use multiple valid measures of effectiveness (including student growth and other measures of professional performance), differentiate performance levels, inform professional development needs, and focus on continuously improving instruction for teachers in both tested and non-tested grades and subjects, including teachers of English Learners and students with disabilities; and

5. Using human capital strategies, which may include professional development and evaluation, that build teacher and leader capacity to create safe, productive school environments and increase academic engagement for all students through positive behavior management and appropriate discipline.

6. Using data from human capital management systems, State longitudinal data systems, and other sources to guide professional development and improve instruction.

F. Requirements for the Center on School Turnaround. In addition to the requirements for all centers and for all Content Centers described in this notice, the Center on School Turnaround must provide technical assistance to Regional Centers and SEAs that focuses on—

1. Developing and strengthening organizational systems and structures that promote and sustain comprehensive district and school reforms that lead to significant gains in student outcomes and close achievement gaps in the lowest-performing schools;

2. Developing effective tools, processes, and policies for States to monitor and support district and school efforts to turn around the lowest-performing schools; the tools, processes, and policies could include ways to select and monitor external providers, support and develop turnaround leaders, and analyze and use data;

3. Collecting and disseminating information and resources on successful school turnaround models;

4. Collecting and disseminating information and resources on promising and emerging State, district, and school approaches to: (a) Improving student outcomes and closing achievement gaps, (b) addressing non-academic factors that impact student achievement, such as students' social, emotional, and health needs, and (c) sustaining improvements across a broad spectrum (e.g., urban, rural, high-poverty) of the lowest-performing schools and across student populations (e.g., English Learners, students with disabilities, high-need students); these approaches may include extending learning time; and

4. Facilitating support networks and ongoing learning opportunities for SEAs, LEAs, and school policymakers and practitioners serving the lowest-performing schools, which may include managing and supporting an online community of practice.

G. Requirements for the Center on Enhancing Early Learning Outcomes. In addition to the requirements for all centers and for all Content Centers, the Center on Enhancing Early Learning Outcomes must provide technical assistance to Regional Centers and SEAs that focuses on—

1. Aligning preschool and kindergarten-through-third-grade education policies and systems in order to increase the number of children who transition successfully to kindergarten and to close the achievement gap, particularly for high-need children;

2. Increasing knowledge and expertise among SEA staff and among State-level early learning program staff in understanding the purposes and uses of a full range of early learning assessment strategies and instruments and in selecting assessment instruments and approaches that are appropriate for all children, including English Learners, students with disabilities, and low-achieving students;

3. Using assessment data and other information to improve the quality of instruction in early learning programs;

4. Increasing the effectiveness of the early learning workforce—for example, by assisting SEAs in developing and implementing statewide workforce knowledge and competency frameworks designed to support children's learning and development and improve outcomes; supporting more robust early childhood educator preparation and professional development efforts; and developing a common, statewide progression of teaching credentials and degrees aligned with the State frameworks; and

5. Working to integrate and align resources and policies across State agencies and programs to support a coordinated statewide system that promotes children's success in school.

H. Requirements for the Center on College and Career Readiness and Success. In addition to the requirements for all centers and for all Content Centers described in this notice, the Center on College and Career Readiness and Success must provide technical assistance to Regional Centers and SEAs that focuses on—

1. Policies and practices that—

a. Support the successful transition of all students from secondary education to college, without the need for remediation, and to careers; and

b. Increase postsecondary enrollment, persistence, and completion—for example, by assisting SEAs in aligning secondary and postsecondary learning expectations, strengthening the rigor of high school courses and pathways, and providing college counseling;

2. SEA development and scaling up of statewide rigorous career and technical education (CTE) programs that align with college- and career-ready standards and lead to an industry-recognized credential or postsecondary certificate or degree—for example, by implementing high-quality, academically rigorous CTE programs and courses; providing high school credits for work-based learning opportunities; providing college credit for secondary school academic and technical courses through statewide secondary-postsecondary articulation agreements; implementing career counseling services that incorporate the most up-to-date information on existing and emerging in-demand industry sectors and occupations; and aligning CTE programs and priorities with State and local economic development strategies, industry standards in existing and emerging in-demand industry sectors and occupations, and job growth data;

3. High-quality science, technology, engineering, and mathematics (STEM) instruction that supports and challenges students through a progression of STEM courses and the transition to postsecondary degree and certificate programs in STEM fields;

4. Implementing accelerated learning strategies such as dual-credit and early college options, General Educational Development (GED)-to-college pathways, competency-based pathways, and other programs designed to encourage and support the successful transition of all students, especially disadvantaged and first-generation college-going students, dropouts who re-enter school, and students with disabilities, from secondary school into postsecondary education or training programs; and

5. Effectively using data—for example, using early warning and college- and career-readiness indicators to identify secondary school students needing additional support, or implementing approaches, consistent with Federal, State, and local privacy laws and regulations, to allow data to be shared between LEAs and postsecondary institutions to improve student transitions.

I. Requirements for the Center on Building State Capacity and Productivity. In addition to the requirements for all centers and for all Content Centers described in this notice, the Center on Building State Capacity and Productivity must provide technical assistance to Regional Centers and SEAS that focuses on—

1. Building the internal organizational capacity of SEAs by—

a. Supporting the implementation of sustainable organizational structures and effective performance management systems that help SEAs support key education initiatives and set priorities for using their resources;

b. Helping SEAs build their staffs' leadership skills and expertise so that staff can effectively lead and support education initiatives and ensure that districts and schools are provided with high-quality services and supports;

c. Helping SEAs strengthen information sharing across organizational units within SEAs in order to facilitate cross-cutting work that increases the success of State- and district-level initiatives designed to improve student outcomes and that enhances the sustainability of these initiatives;

d. Helping SEAs make more efficient use of scarce resources—for example, by measuring and comparing the costs of similar systems, processes, programs, and products; and

e. Identifying State- and district-level research-based practices and emerging promising practices in such areas as human capital management, financial data systems, and return-on-investment analyses that can inform decision- making and help SEAs improve productivity and reduce costs across classrooms, schools, districts, and States; and

2. Building the organizational capacity of SEAs to support district- and school-level implementation of initiatives designed to improve student outcomes by helping SEAs—

a. Build collaborative and productive relationships with their LEAs; provide technical assistance that builds the capacity of its LEAs; facilitate the sharing of research-based practices, emerging promising practices, and problem-solving strategies among LEAs; and identify ways in which the SEA can help its LEAs scale up effective practices;

b. Identify and implement a continuum of supports and interventions to address the needs of districts and schools;

c. Develop processes to identify and select effective external partners and monitor their progress in achieving stated goals and objectives; and

d. Engage and provide information to key stakeholders, including parents, on the implementation of key initiatives.

J. Requirements for the Center on Innovations in Learning. In addition to the requirements for all centers and for all Content Centers described in this notice, the Center on Innovations in Learning must provide technical assistance to Regional Centers and SEAs that focuses on—

1. Identifying and implementing policies, strategies, and practices that encourage the identification and scaling up of new teaching and learning strategies, approaches, processes, or tools that significantly improve, or have the potential to significantly improve, student outcomes—for example, through analyzing State and district data to identify positive trends or unique patterns that indicate significant improvement, or the potential for significant improvement, in student outcomes; helping States use competitions to identify the most promising innovations; helping States rigorously evaluate promising innovations; and supporting States' broad adoption of the most promising and proven innovations and the replacement of less effective programs and practices;

2. Identifying and implementing policies, strategies, and practices that encourage improved student outcomes through personalization of learning for each student—for example, by helping SEAs, LEAs, and schools provide opportunities for self-paced learning, implement instructional approaches and subject matter matched to students needs and interests, and increase access to experts, teachers, and peers who can address specific student needs and interests;

3. Selecting and implementing technologies that support the personalization of learning—for example, (a) data systems that allow teachers to better differentiate instruction and instructional resources for maximum effectiveness and (b) adaptive instructional systems that enable students to optimize the pace of learning and individualize the instructional content they need to achieve mastery;

4. Using State and local data systems to identify specific areas of student need and evaluate the effectiveness of specific strategies that support innovations in learning—for example, practices that improve student learning outcomes, that increase the number of individuals served without increasing resources, or that maintain educational outcomes and the number of students served while using fewer resources; and

5. Identifying and implementing policies and practices that accelerate the adoption of promising and proven personalized learning strategies, practices, and tools.

K. Application Requirements

1. Technical Assistance Plan. An applicant for a Regional Center must submit as part of its application a five-year plan of technical assistance that describes how it will meet the program requirements for all centers and for Regional Centers. An applicant for a Content Center must submit as part of its application a five-year plan of technical assistance that describes how it will meet the program requirements for all centers, the general requirements for all Content Centers, and the applicable Content Center requirements described in this notice.

2. Subject-Matter and Technical Expertise. An applicant for a Regional or Content Center must provide a narrative describing the subject-matter and technical expertise of proposed center staff, including any partners and consultants. At a minimum, the narrative must include the names and resumes for the proposed center staff.

a. All Centers. An applicant for a Regional or Content Center must provide evidence in its application demonstrating that the proposed center staff, including any partners and consultants, possesses—

i. Knowledge and understanding of the research-based practices and emerging promising practices that will enable the applicant to provide high-quality technical assistance specifically related to building SEA capacity to implement State-level initiatives and to support district- and school-level initiatives that improve educational outcomes for all students, close achievement gaps, and improve the quality of instruction; and

ii. Experience in the following:

(a) Delivering high-quality, relevant technical assistance and sharing expertise with SEAs or multiple districts. An applicant must provide evidence of the effect that its technical assistance has had on SEAs or LEAs, such as improved student outcomes, increased organizational capacity, the establishment of effective structures or processes, or high levels of client satisfaction.

(b) Supporting SEAs or multiple districts in implementing key initiatives and in making systemic changes beyond individual districts or schools.

(c) Building collaborative relationships with leading experts and organizations in applicable areas of expertise to increase the quality, relevance, and usefulness of technical assistance.

b. Regional Centers. In addition to the subject-matter and technical expertise outlined for all center applicants, an applicant for a Regional Center must provide evidence in its application demonstrating that the proposed center staff, including any partners and consultants, possesses—

i. Knowledge and understanding of—

(a) The context and status of education reform in each of the States the applicant would serve;

(b) Leading research on implementing educational initiatives and practices and on how to help SEAs implement, support, scale up, and sustain practices that address identified problems;

(c) LEA support systems within States the applicant would serve, such as networks of educational service agencies and third-party systems of support, and how to use those systems to provide high-quality support to districts and schools; and

ii. Experience in the following:

(a) Working with SEAs or multiple districts to implement comprehensive or innovative plans to improve student achievement or provide large-scale technical assistance focused on improving student outcomes.

(b) Developing and implementing performance and project management systems on a large scale or in large, complex, public-sector institutions.

(c) Facilitating communities of practice within and across States.

c. Center on Standards and Assessments Implementation. In addition to the subject-matter and technical expertise outlined for all centers, an applicant for the Center on Standards and Assessments Implementation must provide evidence in its application demonstrating that the proposed center staff, including any partners and consultants, possesses—

i. Knowledge and understanding of—

(a) The Common Core State Standards and other college- and career-ready standards that States have adopted, including detailed knowledge and understanding of the differences in expectations embedded in these standards compared to those embedded in current State standards;

(b) The work of the Smarter Balanced assessment consortium and the Partnership for Assessment of Readiness for College and Careers (PARCC) assessment consortium, as well as other State-developed assessments that are linked to college- and career-ready standards, including assessment designs and the status of efforts to develop and pilot the new assessments; and

(c) Instructional strategies and high-quality curricula that are aligned with rigorous college- and career-ready standards and support the teaching and learning of all students, including English Learners, students with disabilities, and low-achieving students; and

ii. Experience in the following:

(a) Working successfully with SEAs or multiple districts on the implementation of new standards or assessments.

(b) Working with experts and practitioners involved in college- and career-ready assessment efforts supported by States, such as the Smarter Balanced or PARCC assessment consortia.

(c) Working with SEAs or multiple districts in aligning curricular and instructional options, as well as teacher and leader professional development, with new, more rigorous standards.

(d) Working with SEAs, LEAs, or school policymakers and practitioners on the interpretation and appropriate use of assessment data.

d. Center on Great Teachers and Leaders. In addition to the subject-matter and technical expertise outlined for all centers, an applicant for the Center on Great Teachers and Leaders must provide evidence in its application demonstrating that the proposed center staff, including any partners and consultants, possesses—

i. Knowledge and understanding of—

(a) Teacher and leader professional development that improves instruction and helps students meet college- and career-ready standards;

(b) Strategies to improve teacher and leader recruitment and retention;

(c) Designing or improving teacher and leader human capital management systems, including teacher and leader evaluation and support systems, that are based in significant part on student growth, differentiate performance, include multiple measures of effectiveness, inform professional development, and focus on continuous improvement of instruction; and

(d) The broad range of SEA and district teacher and leader human capital management systems, State policies that facilitate or hinder the development of such high-quality systems, and possible barriers to the equitable distribution of effective teachers and leaders; and

ii. Experience in the following:

(a) Working successfully with SEAs or multiple districts on improving the quality of instruction statewide or across multiple districts.

(b) Working collaboratively with teacher and leader preparation organizations, institutions of higher education, charter management organizations, or other teacher and leader preparation and development groups to develop, implement, or improve teacher and leader human capital management systems, including teacher and leader evaluation and support systems.

e. Center on School Turnaround. In addition to the subject-matter and technical expertise outlined for all centers, an applicant for the Center on School Turnaround must provide evidence in its application demonstrating that the proposed center staff, including any partners and consultants, possesses—

i. Knowledge and understanding of—

(a) The approaches States, districts, and schools are taking to turn around their lowest-performing schools, including efforts under the School Improvement Grants and Race to the Top programs; and

(b) Emerging promising practices, including non-academic practices that impact student outcomes, for improving student outcomes in the lowest-performing schools, particularly those engaged in school turnaround efforts; and

ii. Experience working with SEAs or multiple districts on school turnaround efforts, including helping SEAs or multiple districts develop and implement structures or systems that promote and sustain comprehensive district and school reforms and processes and tools to monitor turnaround efforts.

f. Center on Enhancing Early Learning Outcomes. In addition to the subject-matter and technical expertise outlined for all centers, an applicant for the Center on Enhancing Early Learning Outcomes must provide evidence in its application demonstrating that the proposed center staff, including any partners and consultants, possesses—

i. Knowledge and understanding of—

(a) Developmentally appropriate practices for early learning;

(b) State early learning and development standards that define what children should know and be able to do from birth through third grade;

(c) Principles and approaches to appropriately assess young children's knowledge and skills from birth through third grade, including expertise in the field of psychometrics;

(d) The issues related to improving the workforce serving children from birth through third grade, including issues related to workforce competencies, certifications, and compensation; and

(e) State early learning systems; and

ii. Experience in the following:

(a) Providing technical assistance to SEAs or multiple districts on selecting, using, and interpreting the results of early childhood assessments.

(b) Assisting SEAs or multiple districts on building an effective early childhood workforce; and

(c) Working with publically funded early learning programs, such as State-funded preschool; Head Start; programs funded under section 619 of part B of IDEA and part C of IDEA; programs funded under Title I of the ESEA; and programs receiving funds from the State's Child Care Development Fund (CCDF).

g. Center on College and Career Readiness and Success. In addition to the subject-matter and technical expertise outlined for all centers, an applicant for the Center on College and Career Readiness and Success must provide evidence in its application demonstrating that the proposed center staff, including any partners and consultants, possess—

i. Knowledge and understanding of—

(a) Research-based practices and emerging promising practices that support the successful transition of all students from secondary education to college, without the need for remediation, and to careers;

(b) Rigorous career and technical education programs of study that align with college- and career-ready standards; and

(c) High-quality STEM instructional pathways that lead to a postsecondary degree or certification in STEM fields; and

ii. Experience in the following:

(a) Working with SEAs or multiple districts to design and implement systemic, comprehensive strategies that promote college- and career-readiness for K-12 students and students' successful transition from high school graduation to postsecondary education and the workforce.

(b) Helping SEAs address the systemic needs and challenges they and their LEAs face in ensuring that all students graduate from high school prepared for college and careers, particularly in high-poverty, high-minority, urban, and rural settings.

(c) Working with K-12 and postsecondary education systems to align policies and practices in order to improve student transitions from high school to postsecondary degree or credential programs.

h. Center on Building State Capacity and Productivity. In addition to the subject-matter and technical expertise outlined for all centers, an applicant for the Center on Building State Capacity and Productivity must provide evidence in its application demonstrating that the proposed center staff, including any partners and consultants, possesses—

i. Knowledge and understanding of—

(a) SEA organizational structures that are effective in supporting district- and school-level implementation of effective practices to improve student outcomes;

(b) The relationship of an SEA to its LEAs and the differing resources and capacities that exist across LEAs;

(c) Research-based practices and emerging promising practices in using LEA support systems in States, such as networks of educational service agencies and third-party systems of support, in order to provide high-quality support to districts and schools; and

(d) Leading research in performance and project management, including research conducted in non-education sectors and industries; and

ii. Experience in the following:

(a) Working with SEAs to successfully implement programs or initiatives statewide or in multiple districts.

(b) Providing in-depth coaching and advice to SEA leaders on improving internal organizational capacity or the capacity to support district- and school-level implementation of effective practices in order to improve student outcomes.

(c) Facilitating communities of practice within and across States.

(d) Working with large-scale organizations, especially public-sector organizations that work with multiple constituencies and stakeholders, on performance and project management.

i. Center on Innovations in Learning. In addition to the subject-matter and technical expertise outlined for all centers, an applicant for the Center on Innovations in Learning must provide evidence in its application demonstrating that the proposed center staff, including any partners and consultants, possesses—

i. Knowledge and understanding of—

(a) Policies, strategies, and practices that encourage the identification and scaling up of new teaching and learning strategies, approaches, processes, or tools that significantly improve, or have the potential to significantly improve, student outcomes; and

(b) Policies, strategies, and practices that encourage improved student outcomes through personalization of learning and through implementing technologies that support the personalization of learning; and

ii. Experience in the following:

(a) Working with SEAs on identifying and implementing policies, strategies, and practices that encourage the identification and scaling up of new teaching and learning strategies, approaches, processes, or tools that significantly improve, or have the potential to significantly improve, student outcomes.

(b) Working with SEAs or LEAs on identifying and implementing policies, strategies, and practices that encourage improved student outcomes through personalization of learning, including selecting or developing and implementing technologies that support personalized learning.

3. Management Plan.

An applicant must submit a management plan that describes the responsibilities of key personnel, timelines, and milestones for accomplishing project tasks; the time commitment of key personnel; and the adequacy and allocation of resources, including financial or in-kind matching contributions from an entity or organization in the public or private sector, if any. If an applicant's proposed budget includes matching contributions, the application must include evidence of a commitment for the full amount of the matching contribution, inclusive of the source of the funds or in-kind contributions and the date(s) they will be received.

4. Performance and Evaluation Plan.

Each applicant must provide a plan to assess the progress and performance of the center in meeting the educational and capacity-building needs of SEAs. The plan must identify a set of performance objectives the project intends to achieve and performance measures for each performance objective, which must include results-based outcomes; explain the qualitative and quantitative methods that will be used to collect, analyze, and report performance data; and describe the methods that will be used to monitor progress and make mid-course corrections as needed. Each center must also provide a plan to collect and use reliable formative and summative data throughout the grant period to inform and improve service delivery.

III. Flexibility and Requirements for Regional Center Assignments

Requirements. In the second fiscal year of the cooperative agreement, and in each subsequent fiscal year, an SEA could indicate to the Department its desire to affiliate with a different Regional Center, regardless of the geographic location of that Center. A State could exercise this option only once in any two-year period.

To exercise this option, a State must notify the Department in writing, not later than six months prior to the end of the fiscal year, that it wishes to affiliate with a different Regional Center noting the specific reasons for requesting reassignment. The Department will notify the current Regional Center immediately after receiving the request for reassignment. In order to allow time for the grantee to address quality-of-service issues and for the Department to evaluate whether reassignment is in the best interest of the program, the Department will provide the State's current Regional Center a specified period of time to address the concerns articulated by the State before the Department considers the State request. The State must provide—

A. Documentation from the proposed Regional Center with which it wants to affiliate that indicates the Center's willingness and capacity to serve the additional State; and

B. Other information that the Department requests.

After considering the documentation and other information, the Department could approve a request if it is consistent with the requirements in section 203(a) of ETAA that (1) there be no fewer than 20 Comprehensive Centers and that (2) there be at least one Comprehensive Center in each of the 10 geographic regions served by the RELs. If the Department approves the request, the Department will re-designate regions served by each Regional Center to reflect any changes in regional membership. The Department will re-allocate the funding to each center, taking into account changes in the number of students served by each Regional Center and other such factors it deems appropriate. The Department will provide notification of any changes through a notice published in the Federal Register.

IV. Selection Criteria

Selection Criteria: In any competition under this program, the Secretary may use one or more of the selection criteria proposed in this notice, any of the selection criteria in 34 CFR 75.210, criteria based on the statutory requirements for the Comprehensive Centers program in accordance with 34 CFR 75.209, or any combination of these. This includes the authority to reduce the number of selection criteria.

The Secretary may apply one or more of these criteria in any year in which this program is in effect. The Secretary may also select one or more of these selection criteria to review pre-applications, if the Secretary decides to invite pre-applications in accordance with 34 CFR 75.103. In the notice inviting applications, the application package, or both, we will announce the maximum possible points assigned to each criterion.

A. Technical Assistance Plan.

1. Overall quality of the technical assistance plan. In determining the overall quality of the technical assistance plan for the proposed center and the likelihood of the center contributing to improved State outcomes, the Secretary considers—

a. The extent to which the proposed technical assistance plan presents an exceptional approach that will likely result in building SEA capacity to implement State-level initiatives and support district- and school-level initiatives that improve educational outcomes for all students, close achievement gaps, and improve the quality of instruction;

b. The potential contribution of the center to increasing the knowledge and understanding of effective strategies in the center's area of expertise; and

c. The extent to which the proposed technical assistance plan presents an approach that will result in the sharing of high-quality, relevant, useful information, materials, and other applicable resources across SEAs, districts, and schools, within and outside of a region.

d. In the case of an applicant for a Regional Center, the extent to which the proposed technical assistance plan presents an approach that is likely to secure an SEA's commitment to devote the time, leadership, and personnel needed to implement the work plan and achieve specific goals, which may include a memorandum of understanding or similar agreement that contains timelines and benchmarks to ensure that the work stays on track to achieve these goals.

2. Quality of the Project Design. In determining the quality of the project design of the proposed center for which the applicant is applying, the Secretary considers—

a. The extent to which the applicant's technical assistance plan proposes an exceptional approach to meeting the requirements for all centers, which includes—

i. Providing high-quality technical assistance that is based on up-to-date knowledge and understanding of research-based practices and emerging promising practices; is highly relevant and useful to SEAs, LEAs, and school policymakers and practitioners; and is delivered in a timely, cost-efficient manner;

ii. Focusing technical assistance on helping SEAs build capacity to implement State-level initiatives and support district- and school-level initiatives that improve educational outcomes for all students, close achievement gaps, and improve the quality of instruction; and

iii. Coordinating and collaborating with national experts and technical assistance providers to ensure that the technical assistance is informed by leading-edge research and innovative approaches and avoids duplicating efforts;

b. In the case of an applicant for a Regional Center, the extent to which the applicant's technical assistance plan proposes an exceptional approach to meeting the requirements for all Regional Centers; and

c. In the case of an applicant for a Content Center, the extent to which the applicant's technical assistance plan proposes an exceptional approach to meeting the requirements for all Content Centers, as well as the requirements for the specific Content Center for which the applicant is applying.

3. Knowledge of State Technical Assistance Needs. In determining the applicant's ability to meet State technical assistance needs, the Secretary considers the extent to which the proposed technical assistance plan provides strategies that address the technical assistance needs of States in key areas, as evidenced by in-depth knowledge and understanding of—

a. In the case of an applicant for a Regional Center, the specific educational goals and priorities of the States to be served by the applicant, including emerging priorities based on State-led reform efforts;

b. In the case of an applicant for a Regional Center, the applicable State and regional demographics, policy contexts, and other factors and their relevance to improving student outcomes, closing achievement gaps, and improving instruction; and

c. In the case of an applicant for a Content Center, State technical assistance needs, and research-based practices and emerging promising practices related to the Content Center for which the applicant is applying.

B. Subject-Matter and Technical Expertise.

Quality of Key Project Personnel. In determining the subject-matter and technical expertise of key project personnel, the Secretary considers the extent to which the applicant encourages applications for employment from persons who are members of groups that have traditionally been underrepresented based on race, color, national origin, gender, age, or disability. In addition, the Secretary considers—

1. The knowledge, understanding, and experience of key project personnel as outlined under the subject-matter and technical expertise requirements for all centers;

2. In the case of an applicant for a Regional Center, in addition to the knowledge, understanding, and experience outlined under subject-matter and technical expertise requirements for all centers, the subject-matter and technical expertise of key personnel outlined under the requirements for Regional Centers;

3. In the case of an applicant for a Content Center, in addition to the knowledge, understanding, and experience outlined under subject-matter and technical expertise requirements for all centers, the subject-matter and technical expertise of key personnel outlined under the requirements for the specific Content Center for which the applicant is applying;

4. The extent to which the applicant has demonstrated experience providing high-quality technical assistance to SEAs or multiple districts;

5. The extent to which the applicant has demonstrated the ability to develop ongoing partnerships with leading experts and organizations nationwide that inform high-quality technical assistance and subject-matter expertise;

6. The extent to which the applicant has prior relevant experience operating a project of the scope required for the purposes of the center being proposed; and

7. The extent to which the applicant proposes an advisory board membership in accordance with the requirements of the ETAA and includes reasonable assurance of proposed board members' commitment to serve.

C. Management and Evaluation Plans.

1. Quality of the Management Plan. In determining the quality of the management plan for the proposed center, the Secretary considers—

a. The adequacy of the management plan to achieve the objectives of the project on time and within budget, including clearly defined responsibilities, timelines, and milestones for accomplishing project tasks;

b. The extent to which the time commitments of the project director and other key project personnel, including any partners or consultants, are appropriate and adequate to meet the objectives of the proposed project;

c. The extent to which resources are allocated within a region for Regional Centers, and across regions for Content Centers, in a manner that reflects the need for technical assistance; and

d. The adequacy of the resources for the proposed project, including whether the applicant proposes facilities and equipment to successfully carry out the purposes and activities of the proposed center.

2. Quality of the Project Evaluation Plan. In determining the quality of the evaluation plan, the Secretary considers—

a. The extent to which the applicant demonstrates a strong capacity to provide reliable formative and summative data on performance measures;

b. The extent to which the performance goals and objectives for the project are clearly specified and measurable in terms of the project activities to be accomplished and their stated outcomes;

c. The extent to which the methods for monitoring performance and evaluating the effectiveness of project strategies in terms of outcomes for SEAs, districts, and schools are thorough, feasible, and appropriate to the objectives and outcomes of the proposed project;

d. The extent to which the methods of evaluation will provide continuous performance feedback and encourage the continuous assessment of progress toward achieving intended outcomes; and

e. The extent to which the applicant has a high-quality plan to use both formative and summative data from evaluations to inform and improve service delivery over the course of the grant.

Note: This notice does not solicit applications. In any year in which we choose to use one or more of these priorities, requirements, and selection criteria, we invite applications through a notice in the Federal Register.

Executive Orders 12866 and 13563: Under Executive Order 12866, the Secretary must determine whether this regulatory action is “significant” and therefore subject to the requirements of the Executive Order and subject to review by the Office of Management and Budget (OMB). Section 3(f) of Executive Order 12866 defines a “significant regulatory action” as an action likely to result in a rule that may (1) have an annual effect on the economy of $100 million or more, or adversely affect a sector of the economy, productivity, competition, jobs, the environment, public health or safety, or State, local or tribal governments, or communities in a material way (also referred to as an “economically significant” rule); (2) create serious inconsistency or otherwise interfere with an action taken or planned by another agency; (3) materially alter the budgetary impacts of entitlement grants, user fees, or loan programs or the rights and obligations of recipients thereof; or (4) raise novel legal or policy issues arising out of legal mandates, the President's priorities, or the principles set forth in the Executive Order.

Pursuant to the Executive Order, it has been determined that this regulatory action is significant and subject to OMB review under section 3(f)(4) of the Executive Order.

We have also reviewed these regulations under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these priorities, requirements, and selection criteria only on a reasoned determination that their benefits justify their costs. In choosing among alternative regulatory approaches, we selected those approaches that maximize net benefits. Based on the analysis that follows, the Department believes that this regulatory action is consistent with the principles in Executive Order 13563.

Need for Federal Regulatory Action:These priorities, requirements, and selection criteria are needed to implement the Comprehensive Centers program because the authorizing language in the ETAA provides only broad parameters to govern the program. The Department does not believe that the statute, by itself, provides a sufficient level of detail to ensure that all States can build their capacity to improve educational outcomes for all students. The priorities, requirements, and selection criteria in this notice clarify the types of centers the Department seeks to fund and permit the Department to evaluate proposed centers using selection criteria that are based on the purpose of the program and are closely aligned with the Department's priorities. In the absence of specific selection criteria for the Comprehensive Centers program, the Department would use the general selection criteria in 34 CFR 75.210 of the Education Department General Administrative Regulations in selecting grant recipients. The Department does not believe the use of those general criteria would be sufficient for a Comprehensive Centers program competition because they do not focus specifically on the objectives of the program, especially the role of the centers in providing technical assistance to SEAs so that they can build their capacity to assist LEAs and schools and, in turn, improve educational outcomes for students.

Regulatory Alternatives Considered:The Department considered a variety of possible priorities, requirements, and selection criteria before deciding on those included in this notice. For example, the Department considered a priority to support knowledge management and dissemination across all Comprehensive Centers. It chose instead to require each center to collaborate with other Department-funded centers engaged in that type of activity.

The priorities, requirements, and selection criteria reflect and promote the purpose of the Comprehensive Centers program. They also align the program, where possible and permissible, with other Presidential and Departmental priorities. We believe that the priorities, requirements, and selection criteria in this notice appropriately balance the need for specific programmatic guidance while providing each applicant with flexibility to design and propose an innovative and effective Comprehensive Center.

Summary of Costs and Benefits:The Department believes that these priorities, requirements, and selection criteria do not impose significant costs on eligible research organizations, institutions, agencies, institutions of higher education, or partnerships among such entities, or individuals that would receive assistance through the Comprehensive Centers program. We also believe that the benefits of implementing the priorities and requirements contained in this notice justify any associated costs.

The Department believes that the priorities, requirements, and selection criteria will result in the selection of high-quality applications to establish centers that are most likely to build the capacity of SEAs in order to improve educational outcomes for all students. Through these priorities, requirements, and selection criteria, we clarify the scope of activities we expect to support with program funds and the expected burden of work involved in preparing an application and implementing a center under the program. A potential applicant would need to consider carefully the effort that would be required to prepare a strong application and its capacity to implement a project successfully.

The Department further believes that the costs imposed on an applicant by the priorities, requirements, and selection criteria are largely limited to paperwork burden related to preparing an application and that the benefits of preparing an application and receiving an award will justify any costs incurred by the applicant. This is because, during the project period, the costs of actually establishing a center and carrying out activities under a Comprehensive Centers program grant would be paid for with program funds and any matching funds. Thus, the costs of establishing a Comprehensive Center using these priorities, requirements, and selection criteria will not be a significant burden for any eligible applicant, including a small entity.

Accounting Statement:As required by OMB Circular A-4 (available at http://www.Whithouse.gov/omb/Circulars/a004/a-4.pdf), in the following table, we have prepared an accounting statement showing the classification of the expenditures associated with the provisions of this regulatory action. This table provides our best estimate of the Federal payments to be made to eligible applicants under this program as a result of this regulatory action. This table is based on funds the Department has requested for new awards for this program for FY 2012. The actual level of funding, if any, depends on final congressional action. Expenditures are classified as transfers to those entities listed.

Accounting Statement Classification of Estimated Expenditures:

Category | Transfers (in millions)
Annual Monetized Transfers | $51.2
From Whom to Whom | Federal Government to research organizations, institutions, agencies, institutions of higher education, or partnerships among such entities, or individuals.

Regulatory Flexibility Act Certification:The Secretary certifies that this regulatory action will not have a significant economic impact on a substantial number of small entities. The small entities that this regulatory action may affect are eligible research organizations, institutions, agencies, institutions of higher education, or partnerships among such entities, or individuals. The Secretary believes that the costs imposed on an applicant by the priorities, requirements, and selection criteria would be limited to paperwork burden related to preparing an application and that the benefits of implementing them would outweigh any costs incurred by the applicant.

Participation in the Comprehensive Centers program is voluntary. For this reason, the priorities, requirements, and selection criteria will impose no burden on small entities unless they apply for funding under the Comprehensive Centers program using the priorities, requirements, and selection criteria in this notice. We expect that in determining whether to apply for Comprehensive Center funds, an eligible entity would evaluate the requirements of preparing an application and implementing a Comprehensive Center, and any associated costs, and weigh them against the benefits likely to be achieved by implementing a center. An eligible entity would probably apply only if it determines that the likely benefits exceed the costs of preparing an application and implementing a project. The likely benefits of applying for a Comprehensive Center program grant include the potential receipt of a grant as well as other benefits that may accrue to an entity through its development of an application, such as the use of such application to create partnerships with other entities in order to assist State educational agencies.

The U.S. Small Business Administration (SBA) Size Standards define “small entities” as for-profit or nonprofit institutions with total annual revenue below $7,000,000 or, if they are institutions controlled by small governmental jurisdictions (that are comprised of cities, counties, towns, townships, villages, school districts, or special districts), with a population of less than 50,000.

The Secretary believes that the priorities, requirements, and selection criteria in this notice do not impose any additional burden on a small entity applying for a grant than the entity would face in the absence of the proposed action. That is, the length of the applications those entities would submit in the absence of this regulatory action and the time needed to prepare an application would likely be the same.

Further, this regulatory action may help a small entity determine whether it has the interest, need, or capacity to implement activities under the program and, thus, prevent a small entity that does not have such an interest, need, or capacity from absorbing the burden of applying.

This regulatory action will not have a significant economic impact on a small entity once it receives a grant because it will be able to meet the costs of compliance using the funds provided under this program.

Paperwork Reduction Act of 1995

As part of its continuing effort to reduce paperwork and respondent burden, the Department conducts a preclearance consultation process to provide the public and Federal agencies with an opportunity to comment on proposed and continuing collections of information in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

We estimate that each applicant will spend approximately 176 hours of staff time to address the priorities, requirements, and selection criteria; prepare the application; and obtain necessary clearances. Based on the number of applications the Department received in the last competition it held under this program (in FY 2005), we expect to receive approximately 65 applications for these funds. The total number of hours for all expected applicants is an estimated 11,440 hours. We estimate the total cost per hour of the applicant-level staff who will carry out this work to be $57 per hour. The total estimated cost for all applicants will be $652,080.

In the Notice of Proposed Priorities we invited comment on the paperwork burden estimated for this collection. We did not receive any comments.

The Paperwork Reduction Act of 1995 does not require you to respond to a collection of information unless it displays a valid OMB control number. The OMB control number assigned to this information collection is 1810-0709.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 1, 2012.
Deborah S. Delisle,
Assistant Secretary for Elementary and Secondary Education.

[FR Doc. 2012-13739 Filed 6-5-12; 8:45 am]

BILLING CODE 4000-01-P